DEPARTMENT OF EDUCATION

Notice of Submission for OMB Review

AGENCY: Department of Education.

ACTION: Comment Request.

SUMMARY: The Director, Information Collection Clearance Division, Privacy, Information and Records Management Services, Office of Management, invites comments on the submission for OMB review as required by the Paperwork Reduction Act of 1995 (Pub. L. 104-13).

DATES: Interested persons are invited to submit comments on or before December 28, 2011.

ADDRESSES: Written comments should be addressed to the Office of Information and Regulatory Affairs, Attention: Education Desk Officer, Office of Management and Budget, 725 17th Street, NW., Room 10222, New Executive Office Building, Washington, DC 20503, be faxed to (202) 395-5806 or emailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: December 22, 2011.
Darrin King,
Director, Information Collection Clearance Division,Privacy, Information and Records Management Services, Office of Management.

Office of Planning, Evaluation and Policy Development

Type of Review: New.

Title of Collection: Evaluation of the Effectiveness of Online Learning Courses for Secondary Students.

OMB Control Number: Pending.

Agency Form Number(s): N/A.

Frequency of Responses: Once.

Affected Public: Individuals or households.

Total Estimated Number of Annual Responses: 888.

Total Estimated Annual Burden Hours: 462

Abstract: Given the considerable scale at which online learning is being used in schools today, it is particularly important that policymakers have research-based guidance available about how best to deploy online learning activities. However, few rigorous studies have been completed that compare K-12 student achievement in online learning to traditional, classroom-based education. Similarly, while many articles provide advice regarding the “best” ways to implement online learning, few report an empirical basis for recommended practices. To fill this critical gap in knowledge, this research will provide rigorous empirical data on the effectiveness of online learning for secondary students. A set of empirical studies will be conducted under this research. This Office of Management and Budget package pertains only to a study of courses offered by North Carolina Virtual Public School (NCVPS), a large-scale, statewide online learning provider. In this study, the impact of online learning for secondary students enrolled in five different courses offered by NCVPS will be compared with peers enrolled in similar courses in face-to-face instruction. The study will use a quasi-experimental design using propensity score matching. State end-of-course exams for each course and the scores on the Advanced Placement U.S. History exam will be used as the primary outcome measures. In addition to the surveys of online teachers and students, a sample of North Carolina teachers teaching similar courses in face-to-face instruction will be administered a survey to collect information on instructional practices in the comparison face-to-face courses.

Copies of the information collection submission for OMB review may be accessed from the RegInfo.gov Web site at http://www.reginfo.gov/public/do/PRAMain or from the Department's Web site at http://edicsweb.ed.gov, by selecting the “Browse Pending Collections” link and by clicking on link number 4629. When you access the information collection, click on “Download Attachments “to view. Written requests for information should be addressed to U.S. Department of Education, 400 Maryland Avenue SW., LBJ, Washington, DC 20202-4537. Requests may also be electronically mailed to the Internet address ICDocketMgr@ed.gov or faxed to (202) 401-0920. Please specify the complete title of the information collection and OMB Control Number when making your request.

Individuals who use a telecommunications device for the deaf (TDD) may call the Federal Information Relay Service (FIRS) at 1-(800) 877-8339.

[FR Doc. 2011-33263 Filed 12-27-11; 8:45 am]

BILLING CODE 4000-01-P